ENVIRONMENTAL PROTECTION AGENCY

[FRL-11247-01-R5]

Public Water System Supervision Program Approval for the State of Ohio

AGENCY: Environmental Protection Agency (EPA).

ACTION: Notice of approval.

SUMMARY: Notice is hereby given that the Environmental Protection Agency (EPA) has approved the State of Ohio's revisions to the State's Public Water System Supervision (PWSS) Program under the federal Safe Drinking Water Act (SDWA) for adoption of the federal Ground Water Rule. The EPA has determined that the State's PWSS program regulations and the revisions thereto are no less stringent than the corresponding federal regulations for the Ground Water Rule, and thus gives the Ohio Environmental Protection Agency primary enforcement responsibility for the Ground Water Rule. This determination on the State's request for approval of such primacy enforcement responsibility shall take effect in accordance with procedures described below, subject to timely substantial requests for public hearing.

DATES: Any interested party may request a public hearing on this determination. A request for a public hearing must be submitted by September 5, 2023. The EPA Region 5 Administrator may deny frivolous or insubstantial requests for a hearing. If a substantial request for a public hearing is made by September 5, 2023, EPA Region 5 will hold a public hearing, and a notice of such hearing will be published in the Federal Register and a newspaper of general circulation. Any request for a public hearing shall include the following information: The name, address, and telephone number of the individual, organization, or other entity requesting a hearing; a brief statement of the requesting person's interest in the Regional Administrator's determination; a brief statement of the information that the requesting person intends to submit at such hearing; and the signature of the individual making the request, or, if the request is made on behalf of an organization or other entity, the signature of a responsible official of the organization or other entity.

If EPA Region 5 does not receive a timely and appropriate request for a hearing and the Regional Administrator does not elect to hold a hearing upon her own motion, this determination shall become final and effective on September 5, 2023 and no further public notice will be issued.

ADDRESSES: To receive copies of documents related to this determination, please contact Stacy Meyers at meyers.stacy@epa.gov or (312) 886-0880. Documents relating to this determination are available for inspection at the following locations during normal business hours and when the offices are open: Ohio Environmental Protection Agency, Division of Drinking and Ground Waters, Compliance Assurance Section, 50 W Town St., Suite 700, Columbus, Ohio 43215; and the U.S. Environmental Protection Agency Region 5, Ground Water and Drinking Water Branch (WG-15J), 77 W Jackson Blvd., Chicago, IL 60604.

FOR FURTHER INFORMATION CONTACT: Stacy Meyers, EPA Region 5, Ground Water and Drinking Water Branch, at the address given above, by telephone at (312) 886-0880, or at meyers.stacy@epa.gov.

Authority: Section 1413 of the Safe Drinking Water Act, 42 U.S.C. 300g-2, and the federal regulations implementing Section 1413 of the Act set forth at 40 CFR part 142.

Dated: July 28, 2023.
Debra Shore,
Regional Administrator, Region 5.

[FR Doc. 2023-16633 Filed 8-3-23; 8:45 am]

BILLING CODE 6560-50-P